NUCLEAR REGULATORY COMMISSION

Docket No. 50-243

Oregon State University Research Reactor; Notice of Issuance of Renewed Facility License No. R-106

The U.S. Nuclear Regulatory Commission (NRC or the Commission) has issued renewed Facility License No. R-106, held by Oregon State University (the licensee), which authorizes continued operation of the Oregon State University TRIGA reactor (OSTR), located in Corvallis, Benton County, Oregon. The OSTR is a pool-type, light-water-moderated-and-cooled research reactor licensed to operate at a steady-state thermal power level of 1.1 megawatts. Renewed Facility License No. R-106 will expire at midnight 20 years from its date of issuance.

The renewed license complies with the standards and requirements of the Atomic Energy Act of 1954, as amended (the Act), and the Commission's rules and regulations. The Commission has made appropriate findings as required by the Act and the Commission's regulations in Title 10, Chapter 1, “Nuclear Regulatory Commission,” of the Code of Federal Regulations (CFR), and sets forth those findings in the renewed license. The agency afforded an opportunity for hearing in the Notice of Opportunity for Hearing published in the Federal Register on June 14, 2007, at 72 FR 32922. The NRC received no request for a hearing or petition for leave to intervene following this notice.

The NRC staff prepared a safety evaluation report for the renewal of Facility License No. R-106 and concluded, based on that evaluation, that the licensee can continue to operate the facility without endangering the health and safety of the public. The NRC staff also prepared an environmental assessment for license renewal, noticed in the Federal Register on September 8, 2008, at 73 FR 52072, and concluded, based on that assessment, that renewal of the license will not have a significant impact on the quality of the human environment.

The NRC maintains the Agencywide Documents Access and Management System (ADAMS), which provides text and image files of the NRC's public documents. For details with respect to the application for renewal, see the licensee's letter dated October 5, 2004 (ADAMS Accession Nos. ML043270077 and ML07430452), as supplemented by letters dated August 8, 2005 (ADAMS Accession No. ML052290051), May 24, 2006 (ADAMS Accession No. ML061510355), November 10, 2006 (ADAMS Accession No. ML063210182), November 21, 2006 (ADAMS Accession No. ML063320500), July 10, 2007 (ADAMS Accession Nos. ML072150361 and ML072150362), July 27, 2007 (ADAMS Accession No. ML072150363), July 31, 2007 (ADAMS Accession No. ML072190043), August 6, 2007 (ADAMS Accession No. ML072340580), April 14, 2008 (ADAMS Accession No. ML081150194), August 6, 2008 (ML082261409), and August 11, 2008 (ML082270383). The dates and associated ADAMS accession numbers of NRC requests for additional information are May 15, 2006 (ADAMS Accession No. ML061310209), October 3, 2006 (ADAMS Accession No. ML062060026), May 21, 2007 (ADAMS Accession No. ML071300010), February 4, 2007 (ADAMS Accession No. ML072890036), and March 19, 2008 (ADAMS Accession No. ML080710139). For details with respect to the issuance of the renewed facility license, see renewed Facility License No. R-106 (ADAMS Accession No. ML082520502), the related safety evaluation report (ADAMS Accession No. ML071430452), and the related environmental assessment dated September 8, 2008 (ADAMS Accession No. ML061650197). Documents may be examined, and/or copied for a fee, at the NRC's Public Document Room (PDR), located at One White Flint North, 11555 Rockville Pike (first floor), Rockville, Maryland. Publicly available records are accessible electronically from the ADAMS Public Electronic Reading Room on the NRC Web site, http://www.nrc.gov/reading-rm/adams.html. Persons who do not have access to ADAMS or who encounter problems in accessing the documents located in ADAMS should contact the NRC Public Document Room reference staff at 1-800-397-4209 or 301-415-4737, or send an e-mail to pdr@nrc.gov.

Dated at Rockville, Maryland, this 10th day of September 2008.
For the Nuclear Regulatory Commission.
Daniel S. Collins,
Chief, Research and Test Reactors Branch A, Division of Policy and Rulemaking, Office of Nuclear Reactor Regulation.

[FR Doc. E8-21556 Filed 9-15-08; 8:45 am]

BILLING CODE 7590-01-P